SMALL BUSINESS ADMINISTRATION

[Disaster Declaration #13044 and #13045]

West Virginia Disaster Number WV-00023

AGENCY: U.S. Small Business Administration.

ACTION: Amendment 1.

SUMMARY: This is an amendment of the Presidential declaration of a major disaster for the State of West Virginia (FEMA-4059-DR), dated 03/16/2012.

Incident: Severe Storms, Tornadoes, Flooding, Mudslides, and Landslides.

Incident Period: 02/29/2012 through 03/05/2012.

Effective Date: 04/18/2012.

Physical Loan Application Deadline Date: 05/15/2012.

Eidl Loan Application Deadline Date: 12/17/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of WEST VIRGINIA, dated 03/16/2012 is hereby amended to include the following areas as adversely affected by the disaster:

Primary Counties: (Physical Damage and Economic Injury Loans) Harrison, Preston, Taylor.

Contiguous Counties: (Economic Injury Loans Only)

West Virginia: Barbour, Doddridge, Grant, Lewis, Tucker, Upshur.

Maryland: Garrett.

Pennsylvania: Fayette.

All other information in the original declaration remains unchanged.

(Catalog of Federal Domestic Assistance Numbers 59002 and 59008)

Joseph P. Loddo,
Acting Associate Administrator for Disaster Assistance.

[FR Doc. 2012-10116 Filed 4-26-12; 8:45 am]

BILLING CODE 8025-01-P